FEDERAL COMMUNICATIONS COMMISSION

47 CFR Part 73

[DA 02-3167; MB Docket No. 02-226; RM-10459; MB Docket No. 02-227; RM-10467; MB Docket No. 02-228; RM-10460]

Radio Broadcasting Services; Groom, TX, Sonora, TX and Spur, TX

AGENCY: Federal Communications Commission.

ACTION: Final rule.

SUMMARY: This document allots FM Channel 223A at Groom, Texas, in response to a petition filed by Maurice Salsa (MB Docket No. 02-226), allots FM Channel 272A at Sonora, Texas, in response to a petition filed by Katherine Pyeatt (MB Docket No. 02-227), and allots Channel 254A at Spur, Texas, in response to a petition filed by Maurice Salsa (MB Docket No. 02-228). See 67 FR 53901, August 20, 2002. The coordinates for Channel 223A at Groom, TX, are 35-10-49 and 101-01-46. The coordinates for Channel 272A at Sonora, TX, are 30-28-07 and 100-36-54. Mexican concurrence has been received for the allotment of Channel 272A at Sonora. The coordinates for Channel 254A at Spur, TX, are 33-28-35 and 100-51-19. With this action, this proceeding is terminated. A filing window for Channel 223A, Groom, TX, Channel 272A, Sonora, TX, and Channel 254A, Spur, TX, will not be opened at this time. Instead, the issue of opening these allotments for auction will be addressed by the Commission in a subsequent order.

DATES: Effective December 30, 2002.

FOR FURTHER INFORMATION CONTACT: Kathleen Scheuerle, Media Bureau, (202) 418-2180

SUPPLEMENTARY INFORMATION: This is a summary of the Commission's Report and Order, MB Dockets 02-226, 02-227 and 02-228, adopted November 6, 2002, and released November 15, 2002. The full text of this Commission decision is available for inspection and copying during regular business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Groom, Channel 223A, Spur, Channel 254A and Channel 272A at Sonora.

Federal Communications Commission.
John A. Karousos,
Assistant Chief, Audio Division, Media Bureau.

[FR Doc. 02-30504 Filed 12-2-02; 8:45 am]

BILLING CODE 6712-01-P